DEPARTMENT OF HOMELAND SECURITY

Federal Emergency Management Agency

[Docket ID FEMA-2012-0015; OMB No. 1660-0131]

Agency Information Collection Activities: Proposed Collection; Comment Request; State Preparedness Report

AGENCY: Federal Emergency Management Agency, DHS.

ACTION: Notice.

SUMMARY: The Federal Emergency Management Agency, as part of its continuing effort to reduce paperwork and respondent burden, invites the general public and other Federal agencies to take this opportunity to comment on a proposed extension, without change, of a currently approved collection. In accordance with the Paperwork Reduction Act of 1995, this notice seeks comments concerning revision of the State Preparedness Report. The State Preparedness Report is a self-assessment tool for State, local and Tribal governments to evaluate and report on their targeted preparedness capability levels and current capability levels.

DATES: Comments must be submitted on or before June 11, 2012.

ADDRESSES: To avoid duplicate submissions to the docket, please use only one of the following means to submit comments:

(1) Online. Submit comments at www.regulations.gov under Docket ID FEMA-2012-0015. Follow the instructions for submitting comments.

(2) Mail. Submit written comments to Regulatory Affairs Division, Office of Chief Counsel, DHS/FEMA, 500 C Street SW., Room 835, Washington, DC 20472-3100.

(3) Facsimile. Submit comments to (703) 483-2999.

(4) Email. Submit comments to FEMA-POLICY@dhs.gov. Include Docket ID FEMA-2012-0015 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Cathy R. Knight, Program Analyst, National Preparedness Assessment Division, 202-786-9670 for additional information. You may contact the Records Management Division for copies of the proposed collection of information at facsimile number (202) 646-3347 or email address: FEMA-Information-Collections-Management@dhs.gov.

SUPPLEMENTARY INFORMATION: The Post Katrina Emergency Management Reform Act of 2006 (PKEMRA), and as amended by the Implementing Recommendations of the 9/11 Commission Act of 2007, established an annual requirement for a State Preparedness Report (SPR). Its contents are submitted 15 months after the date of enactment of the PKEMRA, and annually thereafter. This information collection will collect preparedness data from states and territories to fulfill the Congressional mandate for the SPR.

The nature of the information is a self-assessment of disaster preparedness, performed by State, Local, and Tribal Government. This will include an assessment of current capability levels and a description of target capability levels. The source of the information will be determined by each survey respondent, but will typically involve the subject matter expertise of emergency management personnel and other homeland security personnel.

Collection of Information

Title: State Preparedness Report.

Type of Information Collection: Extension, without change, of a previously approved collection.

OMB Number: 1660-0131.

Form Titles and Numbers: None.

Abstract: This State Preparedness Report is a Web-based survey that is combined with the National Incident Management System Compliance Assessment Support Tool (NIMSCAST) that will be used to respond to the congressional mandate for the Federal Emergency Management Agency (FEMA), to conduct nationwide assessments of emergency preparedness.

Affected Public: State, Local and Tribal Governments.

Estimated Total Annual Burden Hours: 3,696.

Estimated Cost: There are no recordkeeping, capital, start-up or maintenance costs associated with this information collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: April 5, 2012.
John G. Jenkins, Jr.,
Acting, Records Management Division, Mission Support Bureau, Federal Emergency Management Agency, Department of Homeland Security.

[FR Doc. 2012-8594 Filed 4-9-12; 8:45 am]

BILLING CODE 9111-46-P